DEPARTMENT OF THE INTERIOR

Bureau of Land Management

[AK-050-1610-DR-085L]

Notice of Availability of the Record of Decision for the East Alaska Resource Management Plan (RMP)/Environmental Impact Statement (EIS)

AGENCY: Bureau of Land Management (BLM).

ACTION: Notice of availability of Record of Decision (ROD).

SUMMARY: In accordance with the National Environmental Policy Act (NEPA), the Federal Land Policy and Management Act (FLPMA), and BLM management policies, the BLM announces the availability of the RMP/ROD for the East Alaska planning area.

ADDRESSES: Copies of the East Alaska ROD/RMP are available upon request from the Field Manager, Glennallen Field Office (GFO), Bureau of Land Management, ATTN: RMP, P.O. Box 147, Glennallen, AK 99588, or via the Internet at http://www.blm.gov/ak/gdo.

FOR FURTHER INFORMATION CONTACT: Mr. Bruce Rogers, Planning and Environmental Coordinator, BLM-GFO, P.O. Box 147, Glennallen, AK 99588 (907) 822-3217, or via e-mail to Bruce_E_Rogers@blm.gov.

SUPPLEMENTARY INFORMATION: The East Alaska RMP was developed with broad public participation through a 4-year planning process. This RMP/ROD addresses management on approximately 7.1 million acres of public land in the planning area. The East Alaska RMP is designed to meet goals, objectives, and desired conditions developed through the planning process. It includes a series of management actions to meet these goals, objectives, and desired conditions for upland and riparian vegetation; wildlife habitats; cultural and visual resources; recreation; and subsistence. The approved East Alaska RMP is essentially the same as Alternative D in the Proposed RMP/Final EIS (FEIS), published in June 2006. The BLM received three protests to the PRMP/FEIS, which the BLM Director resolved without requiring significant changes to decisions in the PRMP/FEIS.

The Alaska Governor's Consistency Review found the PRMP/FEIS to be inconsistent with Alaska State plans, policies, or programs. This finding was based on BLM's decision to maintain most of Public Land Order 5150, which withdrew lands for a route for the Trans-Alaska Pipeline and which now provides a pipeline/utility corridor, high recreation and mineral values, and important subsistence resources. The State of Alaska requested revocation of the withdrawal to allow state top-filings to fall into place, resulting in eventual conveyance of these lands to the state. The PRMP/FEIS partially modified the withdrawal to allow for eventual conveyance to the State of 82,500 acres. The inconsistencies have been resolved through wording in the ROD that allows for future negotiation with the State on this issue.

The RMP/ROD includes decisions identifying routes of travel for motorized vehicles, which are implementation level decisions appealable to the Interior Board of Land Appeals (IBLA) under 43 CFR part 4. These decisions (route identifications) are displayed on travel management maps in the ROD/RMP. Any party adversely affected by these route identifications may appeal within 30 days of publication of this Notice of Availability by filing a notice of appeal in the office of the BLM Glennallen Field Manager at the above listed address. The notice of appeal should identify the specific route identifications by township, range, and section which are being appealed.

Thomas P. Lonnie,
State Director, Alaska.

[FR Doc. E7-17491 Filed 9-6-07; 8:45 am]

BILLING CODE 4310-JA-P